GENERAL SERVICES ADMINISTRATION

[PBS-N01; Docket 2007-0007, Sequence 7]

Notice of Availability to Distribute a Final Environmental Impact Statement for the Construction of a New Border Station Facility in Madawaska, Maine

AGENCY: Public Buildings Service, GSA.

ACTION: Notice of Availability.

SUMMARY: The General Services Administration (GSA) announces its intent to distribute a Final Environmental Impact Statement (Final EIS) under the National Environmental Policy Act (NEPA) of 1969, as amended, 42 U.S.C. 4321—4347 (NEPA) to assess the potential impacts of the construction of a New Border Station Facility in Madawaska, Maine (the “Proposed Action”). At the request of Customs and Border Protection (CBP), the GSA is proposing to construct a new border station facility which meets their needs, and the design requirements of the GSA.

The existing facilities are undersized and obsolete, and consequently incapable of providing the level of security now required. The Proposed Action has been defined and includes: (a) Identification of land requirements, including acquisition of adjoining land; (b) demolition of existing government structures at the border station; (c) construction of a main administration building and ancillary support buildings; and (d) consequent potential alterations to secondary roads.

Studied alternatives have identified alternative locations for the components of the border station including the main administration and ancillary support buildings, the associated roadway network and parking. A No Action alternative has also been studied and evaluates the consequences of not constructing the new border station facility. This alternative has been included to provide a basis for comparison to the action alternatives described above as required by NEPA regulations (40 CFR 1002.14(d)).

Following this thirty (30) day notice in the Federal Register, GSA will issue a Record of Decision (ROD) at which time its availability will be announced in the Federal Register and local media.

Contact: David M. Drevinsky P.E., PMP, Regional Environmental Quality Advocate (REQA), U.S. General Services Administration, 10 Causeway Street, Room 975, Boston, MA 02222. Fax: (617) 565-5967. Phone: (617) 565-6596. E-mail: david.drevinsky@gsa.gov.

Distribution

GSA will distribute ten reading copies of the Final EIS at both the Middle / High School Library located on 135 Seventh Avenue in Madawaska and the Madawaska Library located on 393 Main Street.

Dated: February 2, 2007.
Glenn Rotondo,
Assistant Regional Administrator, New England Region.

[FR Doc. E7-2190 Filed 2-8-07; 8:45 am]

BILLING CODE 6820-A8-S